DEPARTMENT OF TRANSPORTATION

Federal Aviation Administration

14 CFR Part 39

[Docket No. FAA-2017-0698; Product Identifier 2017-NM-047-AD; Amendment 39-19143; AD 2018-01-02]

RIN 2120-AA64

Airworthiness Directives; The Boeing Company Airplanes

AGENCY: Federal Aviation Administration (FAA), DOT.

ACTION: Final rule.

SUMMARY: We are superseding Airworthiness Directive (AD) 2017-02-03, which applied to certain The Boeing Company Model 767-200, -300, and -400ER series airplanes. AD 2017-02-03 required inspection of the plastic potable water coupling, and corrective actions if necessary; installation of new spray shrouds; and inspection of previously installed spray shields, and related investigative and corrective actions if necessary. This AD adds airplanes to the applicability and, for certain airplanes, requires hose assembly removals and installations. This AD was prompted by a report of a malfunction of the engine indication and crew alerting system (EICAS) during flight. We are issuing this AD to address the unsafe condition on these products.

DATES: This AD is effective February 7, 2018.

The Director of the Federal Register approved the incorporation by reference of a certain publication listed in this AD as of February 7, 2018.

ADDRESSES: For service information identified in this final rule, contact Boeing Commercial Airplanes, Attention: Contractual & Data Services (C&DS), 2600 Westminster Blvd., MC 110-SK57, Seal Beach, CA 90740-5600; telephone: 562-797-1717; internet: https://www.myboeingfleet.com. You may view this service information at the FAA, Transport Standards Branch, 1601 Lind Avenue SW, Renton, WA. For information on the availability of this material at the FAA, call 425-227-1221. It is also available on the internet at http://www.regulations.gov by searching for and locating Docket No. FAA-2017-0698.

Examining the AD Docket

You may examine the AD docket on the internet at http://www.regulations.gov by searching for and locating Docket No. FAA-2017-0698; or in person at the Docket Management Facility between 9 a.m. and 5 p.m., Monday through Friday, except Federal holidays. The AD docket contains this final rule, the regulatory evaluation, any comments received, and other information. The address for the Docket Office (phone: 800-647-5527) is Docket Management Facility, U.S. Department of Transportation, Docket Operations, M-30, West Building Ground Floor, Room W12-140, 1200 New Jersey Avenue SE, Washington, DC 20590.

FOR FURTHER INFORMATION CONTACT: Stanley Chen, Aerospace Engineer, Cabin Safety and Environmental Systems Section, FAA, Seattle ACO Branch, 1601 Lind Avenue SW, Renton, WA 98057-3356; phone: 425-917-6585; fax: 425-917-6590; email: stanley.chen@faa.gov.

SUPPLEMENTARY INFORMATION:

Discussion

We issued a notice of proposed rulemaking (NPRM) to amend 14 CFR part 39 to supersede AD 2017-02-03, Amendment 39-18782 (82 FR 10541, February 14, 2017) (“AD 2017-02-03”). AD 2017-02-03 applied to certain The Boeing Company Model 767-200, -300, and -400ER series airplanes. The NPRM published in the Federal Register on July 20, 2017 (82 FR 33465). The NPRM was prompted by a report of a malfunction of the EICAS during flight. The NPRM proposed to add airplanes to the applicability and, for certain airplanes, requires hose assembly removal and installation. We are issuing this AD to prevent an uncontrolled water leak from a defective potable water system coupling, which could cause the main equipment center (MEC) line replaceable units (LRUs) to become wet, resulting in an electrical short and potential loss of several functions essential for safe flight.

Comments

We gave the public the opportunity to participate in developing this AD. The following presents the comments received on the NPRM and the FAA's response to each comment.

Effect of Winglets on Accomplishment of the Proposed Actions

Aviation Partners Boeing stated that the installation of winglets per STC ST01920SE does not affect the accomplishment of the manufacturer's service instructions.

We agree with the commenter that STC ST01920SE does not affect the accomplishment of the manufacturer's service instructions. Therefore, the installation of STC ST01920SE does not affect the ability to accomplish the actions required by this AD. We have not changed this AD in this regard.

Request To Delay the Final Rule

Boeing requested that we delay issuance of the final rule until the manufacturer can release Revision 4 of Boeing Alert Service Bulletin 767-38A0073 in November 2017. Boeing pointed out that Revision 4 will not add any airplanes to the effectivity or make any substantial changes that will change the scope of the NPRM. Boeing mentioned that Revision 4 will expand usage of an optional tape material to all affected groups of airplanes because the originally specified tape is no longer available, and include an optional set of clamping instructions that can be used if needed to prevent a riding condition. Boeing also mentioned that Revision 4 will clarify what actions are required for each group of airplanes based on which revision of the service information has previously been accomplished. Boeing pointed out that revising the NPRM to refer to Revision 4 of Boeing Alert Service Bulletin 767-38A0073 would reduce the need for alternative method of compliance (AMOC) requests.

We do not consider that delaying this action until release of the planned service bulletin is warranted. Revision 4 of Boeing Alert Service Bulletin 767-38A0073 is not yet approved, and we cannot specify future revisions of service information in this AD. Revision 3 of Boeing Alert Service Bulletin 767-38A0073 is the current revision available, and it provides adequate information to address the identified unsafe condition. We have reviewed the proposed Revision 4 and as it does provide more options and clarifications which may be helpful, but are not required to accomplish the requirements of this AD. Therefore, we do not plan to wait for the release of Revision 4 of Boeing Alert Service Bulletin 767-38A0073 before issuing this AD. However, we have revised this AD to allow the use of BMS 5-179 tape, wherever Permacell P-29 is instructed to be used in Revision 3. We will consider requests for approval of an AMOC to allow the use of Revision 4 of Boeing Alert Service Bulletin 767-38A0073 after it has been published, under the provisions of paragraph (k)(1) of this AD.

Request To Revise Language of Parts Installation Prohibition

Boeing requested that we revise paragraph (j) of the proposed AD to specify that part numbers CA620 series and CA625 series may not be installed on the locations specific to Boeing Alert Service Bulletin 767-38A0073, Revision 3, dated September 8, 2016. Boeing pointed out that the current wording of paragraph (j) of the proposed AD is being misinterpreted to apply to all airplane locations. Boeing also mentioned that multiple operators have requested revision to the Illustrated Parts Catalog (IPC) to remove listed part numbers CA620 series and CA625 series in other locations that are not affected by Boeing Alert Service Bulletin 767-38A0073, Revision 3, dated September 8, 2016.

We agree with the commenter for the reasons provided. We have revised paragraph (j) of this AD to specify “. . . for the locations identified in Boeing Alert Service Bulletin 767-38A0073, Revision 3, dated September 8, 2016.”

Request To Include Prior AMOC Approvals for AD 2017-02-03

ABX AIR requested that we include prior AMOC approvals that were granted for AD 2017-02-03. ABX AIR mentioned that it operates airplanes that have been converted from passenger configuration to cargo configuration. ABX AIR pointed out that the potable water system and components have been removed from the airplanes during conversion. ABX AIR also pointed out that it had already received AMOC approval for AD 2017-02-03 in regards to the conversion to cargo configuration.

We agree with the commenter for the reasons provided. We have added paragraph (k)(4) to this AD to include prior AMOC approvals for AD 2017-02-03.

Conclusion

We reviewed the relevant data, considered the comments received, and determined that air safety and the public interest require adopting this AD with the changes described previously, and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

We reviewed Boeing Alert Service Bulletin 767-38A0073, Revision 3, dated September 8, 2016 (“Boeing Alert Service Bulletin 767-38A0073, R3”). This service information describes procedures for, among other actions, removing three hose assemblies and installing four new hose assemblies. This service information is reasonably available because the interested parties have access to it through their normal course of business or by the means identified in the ADDRESSES section.

Costs of Compliance

We estimate that this AD affects 139 airplanes of U.S. registry. We estimate the following costs to comply with this AD:

Estimated Costs
Action | Labor cost | Parts cost | Cost per product | Cost on U.S. operators
Inspections (retained actions from AD 2017-02-03) (129 airplanes) | 10 work-hours × $85 per hour = $850 | $0 | $850 | $109,650
Installation (retained actions from AD 2017-02-03) (129 airplanes) | 3 work-hours × $85 per hour = $255 | 330 | 585 | 75,465
Inspections (new action) (10 airplanes) | 10 work-hours × $85 per hour = $850 | 0 | 850 | 8,500
Installation (new actions) (15 airplanes) | 3 work-hour × $85 per hour = $255 | 330 | 585 | 8,775

We estimate the following costs to do any necessary on-condition actions that would be required based on the results of the inspection. We have no way of determining the number of aircraft that might need these actions:

Estimated Cost for On-Condition Actions
Labor cost | Parts cost | Cost per product
Up to 4 work-hours × $85 per hour = $340 | $53 | Up to $393.

According to the manufacturer, some of the costs of this AD may be covered under warranty, thereby reducing the cost impact on affected individuals. We do not control warranty coverage for affected individuals. As a result, we have included all available costs in our cost estimate.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2017-02-03, Amendment 39-18782 (82 FR 10541, February 14, 2017), and adding the following new AD:

2018-01-02 The Boeing Company: Amendment 39-19143; Docket No. FAA-2017-0698; Product Identifier 2017-NM-047-AD.

(a) Effective Date

This AD is effective February 7, 2018.

(b) Affected ADs

This AD replaces AD 2017-02-03, Amendment 39-18782 (82 FR 10541, February 14, 2017) (“AD 2017-02-03”).

(c) Applicability

This AD applies to The Boeing Company Model 767-200, -300, and -400ER series airplanes, certificated in any category, as identified in Boeing Alert Service Bulletin 767-38A0073, Revision 3, dated September 8, 2016 (“Boeing Alert Service Bulletin 767-38A0073, R3”).

(d) Subject

Air Transport Association (ATA) of America Code 38, Water/waste.

(e) Unsafe Condition

This AD was prompted by a report of a malfunction of the engine indication and crew alerting system (EICAS) during flight. We are issuing this AD to prevent an uncontrolled water leak from a defective potable water system coupling, which could cause the main equipment center (MEC) line replaceable units (LRUs) to become wet, resulting in an electrical short and potential loss of several functions essential for safe flight.

(f) Compliance

Comply with this AD within the compliance times specified, unless already done.

(g) Inspection of Couplings and Installation of Spray Shrouds

Except as required by paragraph (h) of this AD: At the applicable times specified in paragraph 1.E., “Compliance,” of Boeing Alert Service Bulletin 767-38A0073, R3, do all applicable actions identified as “RC” (required for compliance) in, and in accordance with, the Accomplishment Instructions of Boeing Alert Service Bulletin 767-38A0073, R3.

Note 1 to paragraph (g) of this AD: Operators can take optional protective measures to cover or shield their equipment against water spray when performing the Potable Water System Leakage Test, as specified in Boeing Alert Service Bulletin 767-38A0073, R3.

(h) Exceptions to the Service Information

(1) Where Boeing Alert Service Bulletin 767-38A0073, R3, uses the phrase “after the original issue date of this service bulletin,” for purposes of determining compliance with the requirements of this AD, March 16, 2017 (the effective date of AD 2017-02-03) must be used.

(2) Where Boeing Alert Service Bulletin 767-38A0073, R3, uses the phrase “after the Revision 2 date of this service bulletin,” for purposes of determining compliance with the requirements of this AD, March 16, 2017 (the effective date of AD 2017-02-03) must be used.

(3) Where Boeing Alert Service Bulletin 767-38A0073, R3, specifies a compliance time “after the Revision 3 date of this service bulletin,” for purposes of determining compliance with the requirements of this AD, the phrase “after the effective date of this AD” must be used.

(4) Where Boeing Alert Service Bulletin 767-38A0073, R3, specifies using Permacell P-29 tape, for purposes of determining compliance with the requirements of this AD, BMS 5-179 tape is acceptable.

(i) Credit for Previous Actions

(1) For airplanes in Groups 4 through 8, 10, 12, and 13, as identified in Boeing Alert Service Bulletin 767-38A0073, R3: This paragraph provides credit for the actions specified in paragraph (g) of this AD, if those actions were performed before the effective date of this AD using Boeing Alert Service Bulletin 767-38A0073, dated November 12, 2013; Boeing Service Bulletin 767-38A0073, Revision 1, dated November 5, 2014; or Boeing Alert Service Bulletin 767-38A0073, Revision 2, dated August 10, 2015.

(2) For airplanes in Groups 1 through 3, and Group 9, Configuration 2, as identified in Boeing Alert Service Bulletin 767-38A0073, R3: This paragraph provides credit for the actions specified in paragraph (g) of this AD, if those actions were performed before the effective date of this AD using Boeing Alert Service Bulletin 767-38A0073, Revision 2, dated August 10, 2015.

(j) Parts Installation Prohibition

As of the effective date of this AD, no person may install any plastic potable water coupling having part number (P/N) CA620 series or P/N CA625 series on any airplane for the locations identified in Boeing Alert Service Bulletin 767-38A0073, Revision 3, dated September 8, 2016.

(k) Alternative Methods of Compliance (AMOCs)

(1) The Manager, Seattle ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (l)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Seattle ACO Branch, to make those findings. To be approved, the repair method, modification deviation, or alteration deviation must meet the certification basis of the airplane, and the approval must specifically refer to this AD.

(4) AMOCs approved previously for AD 2017-02-03 are approved as AMOCs for the corresponding provisions of Boeing Alert Service Bulletin 767-38A0073, R3, that are required by paragraph (g) of this AD.

(5) For service information that contains steps that are labeled as Required for Compliance (RC), the provisions of paragraphs (k)(5)(i) and (k)(5)(ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(l) Related Information

(1) For more information about this AD, contact Stanley Chen, Aerospace Engineer, Cabin Safety and Environmental Systems Section, FAA, Seattle ACO Branch, 1601 Lind Avenue SW, Renton, WA 98057-3356; phone: 425-917-6585; fax: 425-917-6590; email: stanley.chen@faa.gov.

(2) Service information identified in this AD that is not incorporated by reference is available at the addresses specified in paragraphs (m)(3) and (m)(4) of this AD.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Service Bulletin 767-38A0073, Revision 3, dated September 8, 2016.

(ii) Reserved.

(3) For Boeing service information identified in this AD, contact Boeing Commercial Airplanes, Attention: Contractual & Data Services (C&DS), 2600 Westminster Blvd., MC 110-SK57, Seal Beach, CA 90740-5600; telephone: 562-797-1717; internet: https://www.myboeingfleet.com.

(4) You may view this service information at the FAA, Transport Standards Branch, 1601 Lind Avenue SW, Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 26, 2017.
John P. Piccola, Jr.,
Acting Director, System Oversight Division, Aircraft Certification Service.

[FR Doc. 2017-28378 Filed 1-2-18; 8:45 am]

BILLING CODE 4910-13-P